DEPARTMENT OF HOUSING AND URBAN DEVELOPMENT

[Docket No. FR-5910-N-03]

60-Day Notice of Proposed Information Collection: Surveys of Community Development Marketplace Project Inventory and Recipients and Providers of HUD Technical Assistance and Training

AGENCY: Office of Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: May 24, 2016.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Evan Gross, Office of the Deputy Assistant Secretary for Economic Development, Department of Housing and Urban Development, 451 7th Street SW., Washington, DC 20410; email Evan Gross at CDM@hud.gov or telephone 202-402-4889. This is not a toll-free number. Persons with hearing or speech impairments may access this number through TTY by calling the toll-free Federal Relay Service at (800) 877-8339.

Copies of available documents submitted to OMB may be obtained from Mr. Gross.

SUPPLEMENTARY INFORMATION: This notice informs the public that HUD is seeking approval from OMB for the information collection described in Section A.

A. Overview of Information Collection

Title of Information Collection: Survey of Community Development Marketplace Project Inventory and Survey of Recipients and Providers of Direct and Remote Technical Assistance and Training.

OMB Approval Number: 2506-new.

Type of Request: New collection of information.

Form Number: Pending Assignment.

Description of the need for the information and proposed use: This Notice covers three types of information HUD is proposing to collect in order to improve the effectiveness of technical assistance programs and operations:

a. Survey of Community Development Marketplace Project Inventory

The Community Development Marketplace Project Inventory survey (“CDM Survey”) will serve as a vehicle to target cohort learning using remote tools and technical assistance products, as well as provide information in a useful, sortable way to foundations and investors who are seeking community development investment opportunities and researching trends. An example of how the CDM Survey information could be presented to interested stakeholders and the public can be viewed via https://www.hudexchange.info/resource/4479/promise-zones-community-development-marketplace, and questions can be addressed to cdm@hud.gov.

If HUD decides to proceed with the CDM survey after public comment, HUD may embed the survey in max.gov, or the HUD Exchange Web site, or another online platform. HUD may also continue to ask for user feedback through online suggestions and surveys on HUD Exchange or similar Web sites that HUD may use in the future.

b. Survey of Recipients and Providers of HUD Technical Assistance

HUD proposes to survey the recipients and providers of technical assistance, including city and state grantees of HUD funds, public housing authorities, tribes, owners and operators of multifamily housing, Continuums of Care and other non-profit recipients of HUD funding. Technical assistance is provided by third-party organizations awarded funding through cooperative agreements or contracts with HUD. The survey responses will allow HUD and its providers to improve the way it delivers technical assistance HUD proposes to survey one representative from the recipient TA organization and one representative from each TA provider organization for either all or the majority of the TA engagements in a year. The number of engagements varies based on demand for TA and available funding to provide it, but based on past years' trends, HUD expects to survey approximately 200 representatives each from recipient organizations and TA providers, for a total of 400 respondents annually.

The survey will ask respondents to rate quality of the TA they received, their progress toward intended goals, and provide other feedback about the TA engagement including any challenges faced. At least annually, HUD will analyze the survey data to identify program strengths and opportunities for program improvements. HUD may follow up on surveys to secure additional qualitative information through interviews and focus groups.

c. Survey of HUD Training Participants

HUD proposes to survey training participants in order to assess satisfaction with the course content and delivery. Participants include city and state HUD grantees, public housing authorities, tribes, owners and operators of multifamily housing, Continuums of Care (CoCs), and other non-profit recipients of HUD funding. Training is provided by third-party organizations awarded funding through cooperative agreements or contracts with HUD. The survey responses will allow HUD and its providers to improve the content and delivery of its training. All training participants will be offered the opportunity to provide feedback via a brief survey following the training. HUD estimates, based on past years' data, that about 7,000 training participants will be offered the opportunity to complete a feedback survey annually. The survey will ask respondents to rate their satisfaction with the training, including the relevance of the content to their job responsibilities, perceived knowledge gained, and quality of training delivery, and will provide space for comments regarding the training and suggestions to improve future training. At least annually, HUD will analyze the survey data to identify program strengths and opportunities for program improvements.

HUD may follow up on all of the surveys listed above to secure additional qualitative information through interviews and focus groups. HUD may also survey users of online tools and products to assess the usefulness and quality of these offerings.

Information collection | Number of respondents | Frequency of response | Responses per annum | Burden hour per response | Annual burden hours | Hourly cost per response | Annual cost
CDM project intake survey and follow up feedback | 332 | 4 | 1328 | 2.25 | 2988 | $40 | $119,520
Survey of Recipients and Providers of HUD Technical Assistance | 400 | ¹1.1 | 440 | .33 | 145.2 | $15 (rcpnts) $38 (prvdrs) = average of $26.50 | 3,847.80
Survey of HUD Training Participants | 7,000 | ²1.3 | 9,100 | .25 | 2275 | 15 | 34,125
Total | 7732 | 6.4 | 10868 | 2.83 | 5408.20 | <40 | 157,492.80
¹ HUD anticipates that a small percentage of TA recipients will complete a follow-up survey on progress toward intended outcomes, and therefore be asked to complete two surveys.
² HUD anticipates that a small percentage of trainees will complete multiple trainings, and therefore be asked to complete more than one survey.

A. Paperwork Burden

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

B. CDM Survey

For potential users, including foundations, investors, researchers, other stakeholders:

(5) What kind of potential user are you? HUD has heard from foundations, investors, communities, researchers and national intermediaries and stakeholder networks, but there may be others who can use this data.

(6) Does the Project Intake Survey template capture information that would be useful to you? If yes, how is this information useful to you? If the information captured by the CDM Survey is not useful to you, how could we adjust this survey to better suit your information needs?

(7) Please review the list of policy codes, financing types, funding source types, asset classes, and types of project sponsors that respondents are asked to select to categorize their project details. Would these options assist you in filtering and searching for information you would like to have? Are there any codes or options that would help you that missing? Are there any codes or options that are redundant?

(8) Does the project intake survey capture the information useful to organizations working in your community? Please elaborate on what is useful or what could be done to make it more useful.

(9) What are the typical information gaps that interfere with your organization's ability to target suitable funding opportunities? How can the project intake survey be enhanced to yield relevant information for your purposes?

(10) With regard to geography filters, projects in the draft database would be searchable by city, state, zip code, and census tract (where known by the respondent). Do these filters allow for geographic searches that would be useful to you?

(11) How can HUD better engage foundation, philanthropic, and impact investor community?

For potential respondents:

(12) Please review the questions in the proposed Project Intake Survey at [link]. If you are managing a local community development project or intervention, would you be willing and able to respond to the survey questions and to make your responses public for purposes of potentially connecting you to federal and private partners and/or peers that could facilitate your work? If not, why not?

(13) Do you perceive the benefits of responding to the CDM Survey as adequate and sufficiently motivating for you to respond? If not, what additional benefits would motivate you to respond?

(14) With regard to your and your partners' community revitalization efforts, please explain what particular types of information, peer exchange, introductions or other non-competitive assistance would be helpful to you as you move your work forward?

(15) With regard to geography filters, projects in the draft database would be searchable by city, state, zip code, and census tract (where known by the respondent). Do these filters allow for geographic searches that would be useful to you?

C. Surveys of Recipients and Providers of HUD Technical Assistance and Training (Available Upon Request)

The goal of HUD's technical assistance and training is to help customers navigate challenges associated with HUD funding and programs and points them in the right direction to best serve their communities. HUD provides TA and training across its portfolio of programs, including public housing, Native American housing, community development, rental housing, and fair housing. HUD does not currently have a mechanism to systematically solicit TA or training recipient feedback.

The goal of the proposed survey(s) are to systematically collect information across TA and training engagements to learn how effectively they achieved the desired outcomes identified at the start of the engagement. From the information collected, HUD will be able to understand which types of TA and training are preferred by recipients and which seem to be most effective in achieving specific outcomes, and hold TA providers accountable for the quality of TA and training provided. It will provide information that will help HUD continuously improve the way it provides TA and training.

HUD is particularly interested in comments that address the following questions:

For survey of recipients and providers of HUD technical assistance:

(16) Is an online survey sent after the TA engagement a practical way to capture feedback about the TA?

(17) Is a rating system (e.g. rank the TA on a scale of 1-4) an appropriate way to assess customer satisfaction with the TA?

(18) What type(s) of survey question(s) would best measure customer satisfaction with the quality of TA provided?

(19) What other methods besides a survey could be employed to assess the quality of TA provided?

For survey of HUD training participants:

(20) How can HUD most accurately measure customer satisfaction and outcomes of training?

(21) Should the survey of online or virtual training participants be different from the survey for in-person training participants?

(22) Are there any other questions that the survey should ask of HUD training recipients to measure the effectiveness of HUD training?

HUD encourages interested parties to submit comment in response to these questions. Comments submitted in response to this notice will be summarized and/or included in the request for Office of Management and Budget approval of the information collection request; they will also become a matter of public record.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: March 21, 2016.
Harriet Tregoning,
Principal Deputy Assistant Secretary for Community Planning and Development.

[FR Doc. 2016-06849 Filed 3-24-16; 8:45 am]

BILLING CODE 4210-67-P